DEPARTMENT OF HEALTH AND HUMAN SERVICES

Centers for Disease Control and Prevention

Disease, Disability, and Injury Prevention and Control Special Emphasis Panel (SEP): Centers of Excellence in Health Marketing and Health Communication, Program Announcement #CD 05 108; Correction

Correction: This notice was published in the Federal Register on July 12, 2005, Volume 70, Number 132, pages 40038-40039. The times and dates of the meeting have been changed.

Times and Dates: 7:30 p.m.-10 p.m., August 15, 2005 (Closed), 7:30 a.m.-5 p.m., August 16, 2005 (Closed).

Contact Person for more Information: Mary Lerchen DrPH, MS, Assistant Director for Research Practices and Peer Review, Office of Public Health Research, 1600 Clifton Road NE., Mailstop D-72, Atlanta, GA 30333, Telephone (404) 371-5282.

The Director, Management Analysis and Services Office, has been delegated the authority to sign Federal Register notices pertaining to announcements of meetings and other committee management activities, for both CDC and the Agency for Toxic Substances and Disease Registry.

Dated: July 14, 2005.
Alvin Hall,
Director, Management Analysis and Services Office, Centers for Disease Control and Prevention.

[FR Doc. 05-14222 Filed 7-19-05; 8:45 am]

BILLING CODE 4163-18-P